DEPARTMENT OF HEALTH AND HUMAN SERVICES

Viral Hepatitis Action Plan—Community Stakeholder Activities Request for Information

AGENCY: Office of the Assistant Secretary for Health, Office of the Secretary, Department of Health and Human Services.

ACTION: Notice.

SUMMARY: The Department of Health and Human Services (HHS) is seeking public input from state and local governments, community based organizations, academic institutions, professional organizations, advocacy groups, private industry, and other non-federal stakeholders on activities undertaken in 2014-2015 in support of the goals of the national Action Plan for the Prevention, Care, and Treatment of Viral Hepatitis.

DATES: All responses must be received at the address provided below, no later than 5:00 p.m. ET on February 8, 2016.

ADDRESSES: Electronic responses are strongly preferred and may be addressed to Corinna.Dan@hhs.gov. Written responses should be addressed to: U.S. Department of Health and Human Services, 200 Independence Ave. SW., Room 443H, Washington, DC 20201. Attention: VHAP—2015RFI

FOR FURTHER INFORMATION CONTACT: Corinna Dan, RN, MPH, Office of HIV/AIDS and Infectious Disease Policy, (202) 401-9581.

SUPPLEMENTARY INFORMATION: The updated comprehensive national action plan, Combating the Silent Epidemic of Viral Hepatitis: Action Plan for the Prevention, Care, & Treatment of Viral Hepatitis 2014-2016, details more than 150 actions to be undertaken between 2014 and 2016 by 20 federal agencies and offices from across the U.S. Departments of Health and Human Services (HHS), Housing and Urban Development (HUD), Justice (DOJ), and Veterans Affairs (VA). While the Viral Hepatitis Action Plan describes efforts to be undertaken by federal stakeholders, many of the successes our nation has seen in the fight against viral hepatitis have resulted from non-federal efforts including those of health departments, academic researchers, community-based organizations, professional organizations, education and advocacy groups, private industry, and other stakeholders. The Viral Hepatitis Action Plan provides a framework around which all stakeholders can engage to strengthen the nation's response to viral hepatitis and envisions active involvement of and innovation by a broad mix of partners from both public and private sectors.

The updated Action Plan describes four main goals to be achieved by 2020:

• Increase in the proportion of persons who are aware of their hepatitis B virus (HBV) infection, from 33% to 66%.

• Increase in the proportion of persons who are aware of their hepatitis C virus (HCV) infection, from 45% to 66%.

• Reduce by 25% the number of new cases of HCV infection.

• Eliminate mother-to-child transmission of HBV.

This request for information seeks public comment on several key areas with respect to non-federal efforts undertaken throughout calendar years 2014-2015 that are consistent with the four main goals of the Viral Hepatitis Action Plan. Comments are sought on (but not limited to) the following:

1. Describe the type of organization or group with which you are affiliated (e.g., advocacy, private industry, health care, local, or state government, etc.).

2. What is the most significant need your community/clients experience with respect to combating viral hepatitis?

3. What activities conducted in 2014 and 2015 demonstrated the greatest advances toward reaching the goals of the Viral Hepatitis Action Plan? Responses are invited (but not limited to) viral hepatitis activities in the following areas:

a. Raising awareness about viral hepatitis among the general public, specific targeted populations, and/or community leaders;

b. Training and/or increasing capacity of health care providers to prevent, diagnose, treat viral hepatitis;

c. Developing strategies to promote timely viral hepatitis diagnosis and linkage to care;

d. Developing/implementing clinical decision support tools and/or improved protocols in clinical settings that improve viral hepatitis health outcomes;

e. Implementing strategies to educate women of child-bearing age and high risk groups about mother-to-infant transmission of hepatitis B;

f. Reaching people who inject drugs with viral hepatitis information and services;

g. Improving viral hepatitis infection prevention awareness and initiatives in medical settings;

h. Developing strategies to foster stakeholder collaboration and sustainable programs; and

i. Other (please specify).

4. Please include relevant information such as the dates of implementation; names of collaborating organizational partners; related Action Plan goal(s); geographic area and populations served, quantitative findings and outcomes such as number of tests done, proportion of positives identified; and links to online tools, resources, and publications.

Please limit responses to four pages, single-sided, double spaced, 10 point font.

Selected activities will be compiled and made available to federal partners, stakeholders, and the public in order to foster further expansion, innovation, and collaboration toward achieving the goals of the Viral Hepatitis Action Plan. Reponses to this RFI will also be used to inform future HHS strategic planning and implementation.

Dated: December 7, 2015.
Ronald O. Valdiserri,
Deputy Assistant Secretary for Health, Infectious Diseases, Office of the Assistant Secretary for Health.

[FR Doc. 2015-31131 Filed 12-9-15; 8:45 am]

BILLING CODE 4150-28-P